DEPARTMENT OF ENERGY

Federal Energy Regulatory Commission

[Project Nos. 14187-000, 14199-000]

Lock+ Hydro Friends Fund XXXIV; FFP Project 58, LLC; Notice Announcing Filing Priority for Preliminary Permit Applications

On February 22, 2012, the Commission held a drawing to determine priority among competing preliminary permit applications with identical filing times. In the event that the Commission concludes that none of the applicants' plans are better adapted than the others to develop, conserve, and utilize in the public interest the water resources of the region at issue, the priority established by this drawing will serve as the tiebreaker. Based on the drawing, the order of priority is as follows:

1. Lock+ Hydro Friends Fund XXXIV, Project No. 14187-000.

2. FFP Project 58, LLC, Project No. 14199-000.

Dated: February 22, 2012.
Nathaniel J. Davis, Sr.,
Deputy Secretary.

[FR Doc. 2012-4801 Filed 2-28-12; 8:45 am]

BILLING CODE 6717-01-P